NUCLEAR REGULATORY COMMISSION

[Docket Nos. 52-025-COL and 52-026-COL; ASLBP No. 09-873-01-COL-BD01]

Atomic Safety and Licensing Board Panel; In the Matter of Southern Nuclear Operating Co. (Vogtle Electric Generating Plant, Units 3 and 4)

Before the Licensing Board: G. Paul Bollwerk, III, Chairman, Nicholas G. Trikouros, Dr. James F. Jackson.

September 11, 2009.

Memorandum and Order (Notice of Hearing)

This proceeding concerns the March 31, 2008 application of Southern Nuclear Operating Company (SNC) for a 10 CFR part 52 combined license (COL). That COL application (COLA) seeks approval for the construction and operation of two new AP1000 nuclear reactors at the existing Vogtle Electric Generating Plant (VEGP) site near Waynesboro, Georgia. In response to a September 10, 2008 notice of hearing and opportunity to petition for leave to intervene, [SNC], et al.; Notice of Hearing and Opportunity to Petition for Leave to Intervene and Order Imposing Procedures for Access to Sensitive Unclassified Non-Safeguards Information and Safeguards Information for Contention Preparation on a [COL] for the [VEGP] Units 3 and 4, 73 FR 53,446 (Sept. 16, 2008), on November 17, 2008, the Center for a Sustainable Coast, Savannah Riverkeeper, the Southern Alliance for Clean Energy, the Atlanta Women's Action for New Directions, and the Blue Ridge Environmental Defense League (collectively Joint Petitioners or Joint Intervenors) filed a timely request for hearing and petition for leave to intervene contesting the SNC COL application. On December 2, 2008, this three-member Atomic Safety and Licensing Board was established to preside over the contested portion of this COL proceeding.¹ See [SNC]; Establishment of Atomic Safety and Licensing Board, 73 FR 74,532 (Dec. 8, 2008).

¹ In accord with section 189a(1)(a) of the Atomic Energy Act of 1954, as amended, 42 U.S.C. § 189(a)(1)(a), and the Commission's September 10, 2009 hearing notice, see 73 FR at 53,446-47, a mandatory hearing also is required in this proceeding under which a presiding officer would receive evidence from the NRC staff and SNC regarding the sufficiency of the SNC COLA, and the staff's review of that application, with respect to safety and environmental matters that are not the subject of this contested hearing. Under current Commission policy, the Commission would preside over that uncontested adjudicatory proceeding. See Southern Nuclear Operating Co. (Early Site Permit for Vogtle ESP Site), CLI-07-24, 66 NRC 38, 38 & n.2 (2007).

On January 28, 2009, the Board conducted a one-day initial prehearing conference, with representatives of SNC and the NRC staff participating from Rockville, Maryland, and Joint Petitioners taking part via videoconference from Atlanta, Georgia, during which the Board heard oral presentations concerning the admissibility of Joint Petitioners three proffered contentions. The Board also requested additional statements of position from the participants, which the participants filed on February 24, 2009, regarding two potentially related Commission rulings and a ruling by a different licensing board on contentions similar to Joint Petitioners proffered issue statements. Thereafter, in a March 5, 2009 issuance, finding that each of the Joint Petitioners had established the requisite standing to intervene in this proceeding and that they had submitted one admissible contention concerning the SNC COLA, the Board admitted Joint Petitioners as parties to this proceeding. See LBP-09-03, 69 NRC _ (Mar. 5, 2009), referred rulings declined, CLI-09-13, 69 NRC _ (June 25, 2009), and appeals denied, CLI-09-16, 70 NRC _ (July 31, 2009).

In light of the foregoing, please take notice that a hearing will be conducted in this proceeding. Subject to any Board determination regarding any request to utilize formal hearing procedures under 10 CFR part 2, subpart G, see 10 CFR § 2.310(d), the hearing on contested matters will be governed by the informal hearing procedures set forth in 10 CFR part 2, subparts C and L, 10 CFR §§ 2.300-2.390, 2.1200-2.1213.

During the course of this contested proceeding, the Board may conduct an oral argument, as provided in 10 CFR § 2.331, may hold additional prehearing conferences pursuant to 10 CFR § 2.329, and may conduct evidentiary hearings in accordance with 10 CFR §§ 2.327-2.328, 2.1206-2.1208. The public is invited to attend any oral argument, prehearing conference, or evidentiary hearing. Notices of those sessions will be published in the Federal Register and/or made available to the public at the NRC Public Document Room (PDR), located at One White Flint North, 11555 Rockville Pike (first floor), Rockville, Maryland, and through the NRC Web site, http://www.nrc.gov.

Additionally, as provided in 10 CFR § 2.315(a), any person not a party to the proceeding may submit a written limited appearance statement. Limited appearance statements, which are placed in the docket for this proceeding, provide members of the public with an opportunity to make the Board and/or the participants aware of their concerns about matters at issue in the proceeding. A written limited appearance statement can be submitted at any time and should be sent to the Office of the Secretary using one of the methods prescribed below:

Mail to: Office of the Secretary, Rulemakings and Adjudications Staff, U.S. Nuclear Regulatory Commission, Washington, DC 20555-0001.

Fax to: (301) 415-1101 (verification (301) 415-1966).

E-mail to: hearing.docket@nrc.gov.

In addition, a copy of the limited appearance statement should be sent to the Licensing Board Chairman using the same method at the address below:

Mail to: Administrative Judge G. Paul Bollwerk, III, Atomic Safety and Licensing Board Panel, Mail Stop T-3F23, U.S. Nuclear Regulatory Commission, Washington, DC 20555-0001.

Fax to: (301) 415-5599 (verification (301) 415-7550).

E-mail to: paul.bollwerk@nrc.gov.

Additionally, in conjunction with consideration of the then-pending SNC application for a 10 CFR part 52 early site permit (ESP) for proposed Units 3 and 4 on the VEGP site, on March 22 and 23, 2009, the Board conducted oral limited appearance statement sessions in Waynesboro, Georgia, during which members of the public provided the Board and the parties with their views regarding the ESP and COL proceedings. At a later date, the Board may conduct additional oral limited appearance sessions regarding this COL proceeding at a location, or locations, in the vicinity of the VEGP site. Notice of any oral limited appearance sessions will be published in the Federal Register and/or made available to the public at the NRC PDR and on the NRC Web site, http://www.nrc.gov.

Documents relating to this proceeding are available for public inspection at the Commission's PDR or electronically from the publicly available records component of NRC's document system (ADAMS). ADAMS, including its adjudicatory proceeding-related Electronic Hearing Docket, is accessible from the NRC Web site at http://www.nrc.gov/reading-rm/adams.html (the Public Electronic Reading Room). Persons who do not have access to ADAMS, or who encounter problems in accessing the documents located in ADAMS, should contact the NRC PDR Reference staff by telephone at 1-800-397-4209, 301-415-4737, or by e-mail to pdr.resource@nrc.gov.

It is so ordered.
Dated: September 11, 2009.
For the Atomic Safety and Licensing Board.²
² Copies of this memorandum and order were sent this date by the agency's E-Filing system to counsel for (1) Applicant SNC; (2) Joint Intervenors; and (3) the staff.
G. Paul Bollwerk, III,
Chairman, Rockville, Maryland.

[FR Doc. E9-22383 Filed 9-16-09; 8:45 am]

BILLING CODE 7590-01-P